DEPARTMENT OF COMMERCE

International Trade Administration

[A-570-506]

Porcelain-on-Steel Cooking Ware from the People's Republic of China: Notice of Final Results of Antidumping Duty Administrative Review

AGENCY: Import Administration, International Trade Administration, Department of Commerce.

SUMMARY: On December 22, 2005, the Department of Commerce (“the Department”) published the preliminary results of its administrative review of the antidumping duty order on porcelain-on-steel cooking ware from the People's Republic of China (“PRC”). See Porcelain-on-Steel Cooking Ware from the People's Republic of China: Notice of Preliminary Results of Antidumping Duty Administrative Review, 70 FR 76027 (“Preliminary Results”). Based on our analysis of the record, including comments received since the preliminary results, we have made no changes to the preliminary results. Therefore, the final results do not differ from the preliminary results. See Final Results of Review section, below.

EFFECTIVE DATE: April 26, 2006.

FOR FURTHER INFORMATION CONTACT: P. Lee Smith or Scott Fullerton, AD/CVD Operations, Import Administration, International Trade Administration, U.S. Department of Commerce, 14th Street and Constitution Avenue, NW, Washington, DC 20230; telephone: (202) 482-1655 or (202) 482-1386, respectively.

SUPPLEMENTARY INFORMATION:

Background

On December 22, 2005, the Department published the preliminary results of its administrative review of the antidumping duty order on porcelain-on-steel cooking ware from the PRC. See Preliminary Results. The administrative review covers one exporter, Shanghai Watex Metal Co., Ltd. (“Watex”), and its exports of the subject merchandise to the United States during the period December 1, 2003, through November 30, 2004.

We invited parties to comment on our Preliminary Results. On January 17, 2006, we received a case brief from Watex. On January 19, 2006, we received petitioner's, Columbian Home Products, LCC (“Columbian”), request for removal of Watex's untimely new factual information from the record. On January 20, 2006, we sent respondent Watex a letter rejecting its previous case brief because it contained untimely new factual information. See Memorandum to the File From Scot Fullerton: Porcelain-on-Steel Cooking Ware from the People's Republic of China: Revision of Watex Case Brief, dated January 24, 2006. On January 24, 2006, the Department received the redacted version of Watex's case brief which no longer included the new factual information. See Porcelain-on-Steel Cooking Ware from the People's Republic of China: Shanghai Watex Metal Products Co. Ltd.'s Revised Case Brief, dated January 24, 2006 (“Watex Case Brief”). On January 25, 2006, we received petitioner's rebuttal brief. See Pocelain-on-Steel Cooking Ware from the People's Republic of China: Petitioner's Rebuttal Brief, dated January 25, 2006 (“Petitioner's Rebuttal Brief”). On February 7, 2006, we held a public hearing in this review.

Scope of Order

The merchandise covered by this order is porcelain-on-steel cooking ware from the PRC, including tea kettles, which do not have self-contained electric heating elements. All of the foregoing are constructed of steel and are enameled or glazed with vitreous glasses. The merchandise is currently classifiable under the Harmonized Tariff Schedule of the United States (“HTSUS”) subheading 7323.94.00. The HTSUS subheading is provided for convenience and customs purposes. The written description of the scope remains dispositive.

Separate Rates

In the Preliminary Results, the Department determined that Watex had not established its eligibility for a separate rate. See Preliminary Results. Watex submitted a case brief arguing for a separate, company-specific rate. However, we have not received any information since the Preliminary Results which would warrant reconsideration of our separate-rates determination with respect to Watex.

Analysis of Comments Received

All issues raised in the briefs are addressed in the “Issues and Decision Memorandum for the Final Results in the 2003/2004 Administrative Review of Porcelain-on-Steel Cooking Ware from the People's Republic of China from Stephen J. Claeys, Deputy Assistant Secretary for Import Administration, to David M. Spooner, Assistant Secretary for Import Administration,” dated April 21, 2006 (“Issues and Decision Memorandum”), which is hereby adopted by this notice. A list of the issues raised, all of which are in the Issues and Decision Memorandum, is attached to this notice as Appendix I. Parties can find a complete discussion of all issues raised in the briefs and the corresponding recommendations in this public memorandum on file in the Central Records Unit (“CRU”), room B-099 of the Herbert C. Hoover Building. In addition, a complete version of the Issues and Decision Memorandum can be accessed directly on the Web at http://ia.ita.doc.gov. The paper copy and electronic version of the Issues and Decision Memorandum are identical in content.

Changes Since the Preliminary Results

Based on the comments received from the interested parties, we have made no changes to the preliminary results. For the final results, we have adopted our positions in the preliminary results. We continue to find that Watex is not entitled to a separate, company-specific rate and that the application of total adverse facts available is warranted pursuant to sections 776(a)(2)(A), (C), and (D) and 776(b) of the Tariff Act of 1930, as amended (“the Act”). For a discussion, see the Issues and Decision Memorandum at Comments 1 & 2.

Final Results of Review

We determine that the following antidumping duty margin exists:

Porcelain-on-Steel Cooking Ware from the PRC
Manufacturer/Exporter | Weighted-Average Margin (Percent)
PRC-wide Rate | 66.65

Assessment of Antidumping Duties

The Department will determine, and U.S. Customs and Border Protection (“CBP”) shall assess, antidumping duties on all appropriate entries. The Department will issue appropriate assessment instructions directly to CBP within 15 days of publication of the final results of this review. We will instruct CBP to liquidate entries of the subject merchandise during the POR at the cash deposit in effect at the time of entry.

Cash Deposits

The following cash-deposit requirements will be effective upon publication of the final results for shipments of the subject merchandise entered, or withdrawn from warehouse, for consumption on or after the publication date of the final results, as provided by section 751(a)(2)(C) of the Act: (1) For subject merchandise exported by the PRC, including Watex, the cash-deposit rate will be equal to 66.65 percent; (2) the cash-deposit rate for PRC exporters who received a separate rate in a prior segment of the proceeding will continue to be the rate assigned in that segment of the proceeding; (3) for all other PRC exporters of subject merchandise which have not been found to be entitled to a separate rate, the cash-deposit rate will be the PRC-wide rate of 66.65 percent; (4) for all non-PRC exporters of subject merchandise, the cash-deposit rate will be the rate applicable to the PRC exporter that supplied that exporter.

These deposit requirements, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as the only reminder to parties subject to the administrative protective order (“APO”) of their responsibility concerning the return/destruction or conversion to judicial protective order of proprietary information disclosed under APO in accordance with 19 CFR 351.305(a)(3). Failure to comply is a violation of the APO.

This administrative review and notice is in accordance with sections 751(a)(1) and 777(i)(1) of the Act and 19 CFR 351.221(b)(5).

Dated: April 19, 2006.
David M. Spooner,
Assistant Secretary for Import Administration.

Appendix I

Comment 1: Separate Rates

Comment 2: Application of Total Adverse Facts Available

[FR Doc. E6-6290 Filed 4-25-06; 8:45 am]

BILLING CODE 3510-DS-S